DEPARTMENT OF COMMERCE

Bureau of Industry and Security

15 CFR Part 740

[Docket No. 050209030-5030-01]

RIN 0694-AD38

Revision of License Exception TMP for Activities by Organizations Working To Relieve Human Suffering in Sudan

Correction

In rule document 05-3215 beginning on page 8251 in the issue of Friday, February 18, 2005, make the following corrections:

1. On page 8251, in the third column, in the first full paragraph, in the next to last line, “§730.2” should read “§740.2”.

§740.9 [Corrected]

2. On page 8252, in the second column, in §740.9(a)(2)(i)(A), in the second line, “D:2” should read “E:2 ”.

[FR Doc. C5-3215 Filed 2-25-05; 8:45 am]

BILLING CODE 1505-01-D

DEPARTMENT OF TRANSPORTATION

Federal Aviation Administration

14 CFR Part 39

[Docket No. FAA-2004-19961; Directorate Identifier 2004-CE-48-AD]

RIN 2120-AA64

Airworthiness Directives: Air Tractor, Inc. Models AT-502, AT-502A, AT-502B, and AT-503A Airplanes

Correction

In proposed rule document 05-2507 beginning on page 6786 in the issue of Wednesday February 9, 2005, make the following correction:

§ 39.13 [Corrected]

On page 6788, in §39.13, in the third column, under the heading What Airplanes Are Affected by This AD?, paragraph designation “(b)” should read paragraph designation “(c)”.

[FR Doc. C5-2507 Filed 2-25-05; 8:45 am]

BILLING CODE 1505-01-D